DEPARTMENT OF EDUCATION

Office of Special Education and Rehabilitative Services; Special Education—Training and Information for Parents of Children With Disabilities—Parent Training and Information Centers

ACTION: Notice inviting applications for new awards for fiscal year (FY) 2006; Correction.

SUMMARY: On November 8, 2005, we published in the Federal Register (70 FR 67675) a notice inviting applications for new awards for FY 2006 for the Training and Information for Parents of Children with Disabilities—Parent Training and Information Centers competition. The notice contained incomplete funding information and did not include Nebraska among the States for which the Department will accept applications for a 5-year award to establish a parent training and information center (PTI Center). To create a unified system of service delivery, and provide the broadest coverage for the parents and families in every State, the Department makes awards in five-year cycles to each State. Nebraska should have been included in the list of States for which the Department intends to fund one PTI Center to serve the entire State in FY 2006.

On page 67675, third column, and page 67677, first column, the following corrections are necessary: (1) Under Estimated Available Funds, the estimated funding amount for the Parent Training and Information Centers competition is corrected to read “$5,417,915”; (2) the Estimated Average Size of Awards is corrected to read “$285,153”; and (3) the Estimated Number of Awards is corrected to read “19”.

In addition, on page 67677, second column, the second and fourth paragraphs are corrected to include Nebraska in (1) the list of States for which we will be accepting applications for 5-year awards, and (2) the list of States for which one award may be made to a qualified applicant for a PTI Center to serve the entire State. The chart on page 67677, third column, is also corrected to include Nebraska with a maximum funding amount of $230,625.

FOR FURTHER INFORMATION CONTACT: Donna Fluke, U.S. Department of Education, 400 Maryland Avenue, SW., room 4059, Potomac Center Plaza, Washington, DC 20202-2600. Telephone: (202) 245-7345.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 5, 2005.
John H. Hager,
Assistant Secretary for Special Education and Rehabilitative Services.

[FR Doc. E5-7096 Filed 12-7-05; 8:45 am]

BILLING CODE 4000-01-P